INTERNATIONAL TRADE COMMISSION

[USITC SE-12-034]

Government In the Sunshine Act Meeting Notice

AGENCY HOLDING THE MEETING: United States International Trade Commission.

TIME AND DATE: December 28, 2012 at 11:00 a.m.

PLACE: Room 101, 500 E Street SW., Washington, DC 20436, Telephone: (202) 205-2000.

STATUS: Open to the public.

MATTERS TO BE CONSIDERED: 1. Agendas for future meetings: None.

2. Minutes.

3. Ratification List.

4. Vote in Inv. No. 731-TA-1205 (Preliminary)(Silica Bricks and Shapes from China). The Commission is currently scheduled to transmit its determination to the Secretary of Commerce on or before December 31, 2012; Commissioners” opinions are currently scheduled to be transmitted to the Secretary of Commerce on or before January 8, 2013.

5. Outstanding action jackets: None.

In accordance with Commission policy, subject matter listed above, not disposed of at the scheduled meeting, may be carried over to the agenda of the following meeting.

By order of the Commission.
Issued: December 19, 2012.
William R. Bishop,
Supervisory Hearings and Information Officer.

[FR Doc. 2012-30895 Filed 12-19-12; 11:15 am]

BILLING CODE 7020-02-P